DEPARTMENT OF COMMERCE

International Trade Administration

[A-570-016]

Certain Passenger Vehicle and Light Truck Tires From the People's Republic of China: Final Results of Antidumping Duty Administrative Review and Final Determination of No Shipments; 2018-2019

AGENCY: Enforcement and Compliance, International Trade Administration, Department of Commerce.

SUMMARY: The U.S. Department of Commerce (Commerce) determines that certain passenger vehicle and light truck tires (passenger tires) were made as less than normal value during the period of review (POR) August 1, 2018, through July 31, 2019.

DATES: Applicable April 29, 2024.

FOR FURTHER INFORMATION CONTACT: Toni Page, AD/CVD Operations, Office VII, Enforcement and Compliance, International Trade Administration, U.S. Department of Commerce, 1402 Constitution Avenue NW, Washington, DC 20230; telephone: (202) 482-1398.

SUPPLEMENTARY INFORMATION:

Background

On June 18, 2020, Commerce published the preliminary results of the 2018-2019 administrative review of the antidumping duty order on passenger tires from the People's Republic of China (China).¹ On June 3, 2021, Commerce deferred the deadline for the final results to consider whether to request a voluntary remand from the U.S. Court of International Trade of the 2017-2018 administrative review to evaluate the information provided by U.S. Customs and Border Protection (CBP) regarding Shandong New Continent Tire Co., Ltd. (Shandong New Continent) (the mandatory respondent in the 2017-2018 administrative review whose rate of zero percent was preliminarily assigned to the separate rate respondents in the instant administrative review), further examine whether Shandong New Continent accurately reported its 2017-2018 POR sales information, and potentially reopen the record to solicit additional information.² On February 20, 2024, Commerce notified interested parties of its intent to issue the final results of the 2018-2019 administrative review by no later than April 22, 2024.³ For a summary of the events subsequent to the Preliminary Results, see the Issues and Decision Memorandum.⁴

¹ See Certain Passenger Vehicle and Light Truck Tires from the People's Republic of China: Preliminary Results of Antidumping Duty Administrative Review and Rescission, in Part: 2018-2019, 85 FR 36831 (June 18, 2020) (Preliminary Results), and accompanying Preliminary Decision Memorandum (PDM).

² See Memorandum, “Deferral of the Final Results of Antidumping Duty Administrative Review; 2018-2019,” dated June 3, 2021.

³ See Memorandum, “Notification of Resumption of the Final Results of Antidumping Duty Administrative Review; 2018-2019,” dated February 20, 2024.

⁴ See Memorandum, “Issues and Decision Memorandum for the Final Results of the Administrative Review of the Antidumping Duty Order on Certain Passenger Vehicle and Light Truck Tires from the People's Republic of China; 2018-2019,” dated concurrently with, and hereby adopted by, this notice (Issues and Decision Memorandum).

Scope of the Order

The products covered by this order are certain passenger vehicles and light truck tires. A full description of the scope of the order is provided in the Issues and Decision Memorandum.

Analysis of Comments Received

Commerce addressed all issues raised in the case and rebuttal briefs in the Issues and Decision Memorandum. These issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, we determine that Qingdao Fullrun Tyre Corp., Ltd. (Fullrun Tyre) had no shipments during the POR. For further details, see the Issues and Decision Memorandum.

Final Determination of No Shipments

Based on an analysis of CBP information, Commerce determines that the following companies had no shipments during the POR: (1) Shandong Duratti Rubber Corporation Co., Ltd.; and (2) Qingdao Fullrun Tyre Corp., Ltd.

Shandong Anchi Tyres Co., Ltd. (Anchi) filed a no-shipment certification; however, our preliminary analysis of CBP information contradicted this claim. After further review, we determine for these final results that Anchi had shipments during the POR. For additional information regarding this determination, see the Issues and Decision Memorandum.

Separate Rates

In the Preliminary Results, we found that the following companies did not establish their eligibility for a separate rate: (1) Qingdao Odyking Tyre Co., Ltd. (Qingdao Odyking); (2) Shandong Longyue Rubber Co., Ltd. DBA ZODO Tire Co., Ltd. (Shandong Longyue); (3) Anchi; and (4) Fullrun Tyre.⁵ As such, we preliminarily found that these companies were part of the China-wide entity. No interested party filed comments with respect to Qingdao Odyking's and Shandong Longyue's preliminary separate rate findings; therefore, for the final results, we continue to find that these two companies are part of the China-wide entity. Interested parties did file comments with respect to Anchi and Fullrun Tyre. We have examined these comments and continue to find that Anchi is part of the China-wide entity; however, as noted above, we have found that Fullrun Tyre had no shipments during the instant POR.⁶

⁵ See Preliminary Results, 85 FR 36831, 36832.

⁶ See Issues and Decision Memorandum at Comment 6.

We also continue to find that the evidence provided by the following respondents supports finding an absence of both de jure and de facto government control, and, therefore, we continue to grant a separate rate to each of these companies: (1) Qingdao Fullrun Tyre Tech Corp., Ltd.; (2) Qingdao Powerich Tyre Co., Ltd.; (3) Qingdao Sentury Tire Co., Ltd.; (4) Shandong Linglong Tyre Co., Ltd.; (5) Shandong Province Sanli Tire Manufactured Co., Ltd.; (6) Shandong Yongsheng Rubber Group Co., Ltd.; and (7) Shouguang Firemax Tyre Co., Ltd.

Rate for Non-Selected Separate Rate Respondents

The Tariff Act of 1930, as amended (the Act), and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate.

However, here, because both mandatory respondents were found to be part of the China-wide entity, there are no estimated weighted-average dumping margins calculated for exporters or producers individually examined in this review. Therefore, consistent with our practice,⁷ we have assigned to the non-individually examined companies that demonstrated their eligibility for a separate rate the most recently assigned separate rate in this proceeding (i.e., 0.00 percent).⁸

⁷ See, e.g., Multilayered Wood Flooring from the People's Republic of China: Final Results of Antidumping Duty Administrative Review, Final Successor-in-Interest Determination, and Final Determination of No Shipments; 2018-2019, 86 FR 59987 (October 29, 2021), and accompanying IDM at Comment 1; and Drawn Stainless Steel Sinks from the People's Republic of China: Preliminary Results of the Antidumping Duty Administrative Review; 2019-2020, 86 FR 7363 (January 28, 2021), and accompanying PDM, unchanged in Drawn Stainless Steel Sinks from the People's Republic of China: Final Results of the Antidumping Duty Administrative Review; 2019-2020, 86 FR 18511 (April 9, 2021).

⁸ See Certain Passenger Vehicle and Light Truck Tires from the People's Republic of China: Final Results of Antidumping Duty Administrative Review; 2017-2018, 85 FR 22396 (April 22, 2020).

China-Wide Entity

Under Commerce's current policy regarding the conditional review of the China-wide entity, the China-wide entity will not be under review unless a party specifically requests, or Commerce self-initiates, a review of the entity.⁹ Because no party requested a review of the China-wide entity in this review, the entity is not under review and the entity's rate is not subject to change (i.e., 76.46 percent).¹⁰

⁹ See Antidumping Proceedings: Announcement of Change in Department Practice for Respondent Selection in Antidumping Duty Proceedings and Conditional Review of the Nonmarket Economy Entity in NME Antidumping Duty Proceedings, 78 FR 65963 (November 4, 2013).

¹⁰ See Certain Passenger Vehicle and Light Truck Tires from the People's Republic of China: Amended Final Affirmative Antidumping Duty Determination and Antidumping Duty Order; and Amended Final Affirmative Countervailing Duty Determination and Countervailing Duty Order, 80 FR 47902, 47904, n.19 (August 10, 2015).

Final Results of Review

Commerce determines that the following weighted-average dumping margin exists for the period of August 1, 2018, through July 31, 2019:

Exporter | Weighted- average dumping margin (percent)
Qingdao Fullrun Tyre Tech Corp., Ltd | 0.00
Qingdao Powerich Tyre Co., Ltd | 0.00
Qingdao Sentury Tire Co., Ltd | 0.00
Shandong Linglong Tyre Co., Ltd | 0.00
Shandong Province Sanli Tire Manufactured Co., Ltd | 0.00
Shandong Yongsheng Rubber Group Co., Ltd | 0.00
Shouguang Firemax Tyre Co., Ltd | 0.00

Disclosure

Normally, Commerce will disclose the calculations used in our analysis to parties in this review within five days of the date of publication of the notice of final results in the Federal Register, in accordance with 19 CFR 351.224(b). However, here, Commerce is applying a separate rate ¹¹ and the China-wide rate ¹² that were established in prior segments of the proceeding. Thus, there are no calculations on this record to disclose.

¹¹ See Certain Passenger Vehicle and Light Truck Tires from the People's Republic of China: Final Results of Antidumping Duty Administrative Review; 2017-2018, 85 FR 22396 (April 22, 2020).

¹² See Certain Passenger Vehicle and Light Truck Tires from the People's Republic of China: Amended Final Affirmative Antidumping Duty Determination and Antidumping Duty Order; and Amended Final Affirmative Countervailing Duty Determination and Countervailing Duty Order, 80 FR 47902 (August 10, 2015).

Assessment Rates

Pursuant to section 751(a)(2)(C) of the Act, and 19 CFR 351.212(b), Commerce will determine, and CBP shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the final results, we will instruct CBP to apply an ad valorem assessment rate of 76.46 percent to all entries of subject merchandise during the POR that were exported by Qingdao Odyking and Shandong Longyue.

For the companies receiving a separate rate, we intend to assign an assessment rate of 0.00 percent, consistent with the methodology described above. Additionally, if Commerce determines that an exporter under review had no shipments of the subject merchandise, any suspended entries that entered under that exporter's CBP case number will be liquidated at the rate for the China-wide entity.

Cash Deposit Requirements

The following cash deposit requirements will be effective upon publication of the final results of this administrative review for all shipments of the subject merchandise from China entered, or withdrawn from warehouse, for consumption on or after the publication date, as provided for by section 751(a)(2)(C) of the Act for the three separate rate respondents that do not have a superseding cash deposit rate: ¹³ (1) for the exporters listed above, the cash deposit rate will be equal to the weighted-average dumping margin established in the final results of this review (except that, if the rate is de minimis (i.e., less than 0.5 percent), then the cash deposit rate will be zero for that exporter); (2) for previously investigated or reviewed Chinese and non-Chinese exporters not listed above that have separate rates, the cash deposit rate will continue to be equal to the exporter-specific weighted-average dumping margin published of the most recently-completed segment of this proceeding; (3) for all Chinese exporters of subject merchandise that have not been found to be entitled to a separate rate, the cash deposit rate will be the rate for the China-wide entity, i.e., 76.46 percent; and (4) for all exporters of subject merchandise which are not located in China and which are not eligible for a separate rate, the cash deposit rate will be the rate applicable to Chinese exporter(s) that supplied that non-Chinese exporter. These cash deposit requirements shall remain in effect until further notice.

¹³ These three companies are: Qingdao Fullrun Tyre Tech Corp., Ltd.; Qingdao Powerich Tyre Co., Ltd.; and Shandong Yongsheng Rubber Group Co., Ltd.

Because Qingdao Sentury Tire Co., Ltd., Shandong Linglong Tyre Co., Ltd., Shandong Province Sanli Tire Manufactured Co., Ltd., and Shouguang Firemax Tyre Co., Ltd. have a superseding cash deposit rate, i.e. there have been final results published in a subsequent administrative review, we will not issue revised cash deposit instructions to CBP for these companies. Thus, this notice will not affect the current cash deposit rate for these companies.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: April 22, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. Changes from the Preliminary Results

V. Discussion of the Issues

Comment 1: Whether to Modify the Rate for Separate Rate Respondents

Comment 2: Whether to Deny a Separate Rate to Shandong Linglong Tyre Co., Ltd. (Linglong)

Comment 3: Whether to Deny a Separate Rate to Qingdao Powerich Tyre Co., Ltd. (Qingdao Powerich)

Comment 4: Whether to Deny a Separate Rate to Shandong Yongsheng Rubber Group Co., Ltd. (Shandong Yongsheng)

Comment 5: Whether to Deny a Separate Rate to Qingdao Fullrun Tyre Tech Corp., Ltd. (Fullrun Tyre Tech)

Comment 6: Whether Anchi Tyres Co., Ltd. (Anchi) and Qingdao Fullrun Tyre Corp., Ltd. (Fullrun Tyre) Have No Shipments and/or Qualify for a Separate Rate

VI. Recommendation

[FR Doc. 2024-09092 Filed 4-26-24; 8:45 am]

BILLING CODE 3510-DS-P